DEPARTMENT OF ENERGY

Federal Energy Regulatory Commission

[Docket No. EL05-15-000, et al.]

Arkansas Electric Cooperative Corporation, et al.; Electric Rate and Corporate Filings

October 27, 2004.

The following filings have been made with the Commission. The filings are listed in ascending order within each docket classification.

1. Arkansas Electric Cooperative Corporation, Complainant v. Entergy Arkansas, Inc., Respondent

[Docket No. EL05-15-000]

Take notice that on October 25, 2004, Arkansas Electric Cooperative Corporation (AECC) filed a formal complaint against Entergy Arkansas, Inc. (EAI) pursuant to sections 206 and 306 of the Federal Power Act, 16 U.S.C. 824e and 825e, and Rule 206 of the Commission's Rules of Practice and Procedure, 18 CFR 206, alleging that EAI has unilaterally, and without filing with the Commission, changed the method of classifying and pricing energy under agreements between EAI and AECC, effective July 1, 2004.

AECC states that copies of the Complaint were served on the contracts for EAI listed on the Commission's list of Corporate Officials.

Comment Date: 5 p.m. eastern time on November 17, 2004.

2. Aquila Merchant Services, Inc., Complainant v. Southwest Power Pool, Inc., Respondent

[Docket Nos. EL05-16-000]

Take notice that on October 26, 2004, Aquila Merchant Services, Inc. (AMS) filed a formal complaint against Southwest Power Pool, Inc. (SPP) pursuant to section 206 of the Federal Power Act, 16 U.S.C. 824e, and Rule 206 of the Rules of Practice and Procedure of the Federal Energy Regulatory Commission, alleging that SPP has incorrectly failed to apply the demand charge cap set forth in Schedule 7, section 2 of SPP's Open Access Transmission Tariff (OATT) as required under the terms of the SPP OATT and Order No. 888 with respect to redirected service under section 22.2 of the SPP OATT.

Aquila certifies that copies of the complaint were served on the contacts for SPP as listed on the Commission's list of Corporate Officials.

Comment Date: 5 p.m. eastern time on November 17, 2004.

3. Consolidated Water Power Company

[Docket No. ER98-4512-004]

Take notice that on October 22, 2004, Consolidated Water Power Company (CWPCo) filed a supplement to its revised market-based rate submission filed on August 5, 2004, to address, among other things, Commission's market power standards, including the two indicative screens for assessing generation market power established in AEP Power Marketing, Inc., et al., 107 FERC ¶ 61,026 (2004), reh'g, 108 FERC ¶ 61,026 (2004) (AEP).

CWPCo states that a copy of this letter and attachments have been mailed by first class mail upon each person designated on the official service list compiled by the Secretary of the Federal Energy Regulation Commission in Docket No. ER98-4512.

Comment Date: 5 p.m. eastern time on November 12, 2004.

4. United Illuminating Company

[Docket No. ER03-31-007]

Take notice that on October 22, 2004, United Illuminating Company (United Illuminating) tendered for filing revisions to FERC Electric Tariff Second Revised Volume No. 4, Service Agreement No. 23, Interconnection Agreement By and Between the United Illuminating Company and Cross-Sound Cable Company, LLC to comply with the Commission's April 1, 2004, Order, United Illuminating Co., 107 FERC ¶ 61,003 (2004), and the September 22, 2004, Order, United Illuminating Co., 108 FERC ¶ 61,293 (2004).

United Illuminating states that copies of the filing were served upon parties designated on the Official Service List compiled by the Secretary in this proceeding.

Comment Date: 5 p.m. eastern time on November 12, 2004.

5. Xcel Energy Services, Inc.

[Docket No. ER04-1174-002]

Take notice that on October 20, 2004 Xcel Energy Services, Inc. (XES) on behalf of its affiliates, Public Service Company of Colorado (PSCo) and Southwestern Public Service Company (SPS) submitted an amended filing containing changes to the Xcel Energy Operating Companies' Joint Open Access Transmission Tariff. XES requests an effective date of December 13, 2004.

XES states that a copy of this letter with the attachments is being served upon each person designated on the official service list compiled by the Secretary in Docket No. ER04-1174-001.

Comment Date: 5 p.m. eastern time on November 3, 2004.

6. Consolidated Edison Energy, Inc.

[Docket No. ER04-1196-002]

Take notice that on October 22, 2004, Consolidated Edison Energy, Inc. (CEE) submitted an amendment to its August 17, 2004, and September 30, 2004, filings in Docket Nos. ER04-1196-000 and ER04-1196-001.

Comment Date: 5 p.m. eastern time on November 12, 2004.

7. Duke Energy Moapa, LLC

[Docket No. ER05-59-001]

Take notice that on October 22, 2004, Duke Energy Moapa, LLC (Duke Moapa) submitted an errata to its Notice of Cancellation of FERC Electric Tariff, Original Volume No. 1, filed October 21, 2004, in Docket No. ER05-59-000.

Duke Moapa states that a notice of the proposed cancellation has not been served on any party because Duke Energy Moapa, LLC does not engage in the marketing of electric energy or power at wholesale and has no customers.

Comment Date: 5 p.m. eastern time on November 12, 2004.

8. PacifiCorp

[Docket No. ER05-61-000]

Take notice that on October 22, 2004, PacifiCorp submitted a Notice of Cancellation of PacifiCorp's Rate Schedule No. 313 with the Western Area Power Administration. PacifiCorp requests an effective date of December 31, 2004.

PacifiCorp states that copies of the filing were served upon the Western Area Power Administration, the Washington Utilities and Transportation Commission, and the Public Utility Commission of Oregon.

Comment Date: 5 p.m. eastern time on November 12, 2004.

9. Jersey Central Power and Light Company

[Docket No. ER05-64-000]

Take notice that on October 22, 2004, Jersey Central Power and Light Company, a FirstEnergy Company, (Jersey Central) submitted for filing: (1) A Transmission Interconnection Agreement between Jersey Central and Atlantic City Electric Company (ACE), designated as Original Service Agreement No. 1178 under the PJM Open Access Transmission Tariff (PJM OATT), and (2) a Notice of Cancellation for Original Service Agreement No. C890 between Jersey Central and ACE under the PJM OATT.

Jersey Central states that copies of the filing have been served on regulators in New Jersey, ACE and PJM.

Comment Date: 5 p.m. eastern time on November 12, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3039 Filed 11-5-04; 8:45 am]

BILLING CODE 6717-01-P